DEPARTMENT OF STATE

[Public Notice 6507]

60-Day Notice of Proposed Information Collection: Form DS-7002, Training/Internship Placement Plan, OMB Control Number 1405-0170

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Exchange Visitor Program—Training/Internship Placement Plan.

• OMB Control Number: 1405-0170.

• Type of Request: Revision of a Currently Approved Collection.

• Originating Office: Bureau of Educational and Cultural Affairs, ECA/EC.

• Form Number: Form DS-7002.

• Respondents: Entities designated by the Department of State as sponsors of exchange visitor programs in the trainee or intern categories and U.S. businesses that provide the training or internship opportunity.

• Estimated Number of Respondents: 160.

• Estimated Number of Responses: 30,000.

• Average Hours per Response: 1 hour.

• Total Estimated Burden: 30,000.

• Frequency: On occasion.

• Obligation to Respond: Required to Obtain Benefits.

DATES: The Department will accept comments from the public up to 60 days from February 3, 2009.

ADDRESSES: You may submit comments identified by any of the following methods:

• Persons with access to the Internet may also view this notice and provide comments by going to the regulations.gov Web site at: http://www.regulations.gov/index.cfm.

• Mail (paper, disk, or CD-ROM submissions): U.S. Department of State, Office of Exchange Coordination and Designation, SA-44, 301 4th Street, SW., Room 734, Washington, DC 20547

• E-mail: jexchanges@state.gov.

You must include the DS form number (if applicable), information collection title, and OMB control number in any correspondence.

FOR FURTHER INFORMATION CONTACT: Stanley S. Colvin, Deputy Assistant Secretary, Office of Private Sector Exchange, U.S. Department of State, SA-44, 301 4th Street, SW., Room 734, Washington, DC 20547; or e-mail at jexchanges@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The collection is the continuation of information collected and needed by the Bureau of Educational and Cultural Affairs in administering the Exchange Visitor Program (J-Visa) under the provisions of the Mutual Educational and Cultural Exchange Act, as amended. Trainee/Internship Placement Plans are to be completed by designated program sponsors. A Training/Internship Placement Plan is required for each trainee or intern participant. It will set forth the training or internship program to be followed and includes the skills the trainee or intern will obtain, whether the trainee or intern will receive any remuneration for housing and living expenses (and if so, the amount), and estimates of the living expenses and other costs the trainees or interns are likely to incur while in the United States. The plan must be signed by the trainee or intern, sponsor, and the third party placement organization, if a third party organization is used in the conduct of the training or internship.

Upon request, trainees or interns must present fully executed Trainee/Internship Placement Plans on Form DS-7002 to any Consular Official interviewing them in connection with the issuance of J-1 visas.

Methodology: The collection will be submitted to the Department by mail or fax as requested by DoS during the review of program sponsor files, redesignations, incidents, etc.

Dated: January 26, 2009.
Stanley S. Colvin,
Deputy Assistant Secretary, Office of Private Sector Exchange, Bureau of Educational and Cultural Affairs, Department of State.

[FR Doc. E9-2258 Filed 2-2-09; 8:45 am]

BILLING CODE 4710-05-P